Title 3—

The President

Proclamation 8396 of July 17, 2009

Captive Nations Week, 2009

By the President of the United States of America

A Proclamation

Fifty years ago, President Eisenhower issued a call of solidarity to peoples across the world living under communist rule. This first Captive Nations Week Proclamation expressed concern that too many people lacked fundamental freedoms, and it affirmed that the people of the United States stood alongside those who yearned to be free. Since this declaration, more nations have chosen the path of self-determination and respect for basic human rights. Brave American men and women have contributed to this story, making great sacrifices while serving in our Armed Forces or working in Government, private industry, and other organizations.

The Cold War is now consigned to the history books, but the ideals that President Eisenhower proclaimed remain vibrant and inspiring today. Just as in years past, people still hope to have the freedom and opportunity to pursue their dreams. People, young and old, still yearn to speak their minds. Citizens still believe governments have an obligation to be honest and transparent, uphold the rule of law, and allow civic participation.

We regard these universal principles as guiding values, and we stand in solidarity with those who aspire to live by them—not only because it is right, but also because our Nation’s fate is connected to that of other nations. In an interdependent world, instability, disease, and hardship abroad affect us here at home. Governments that are responsive to the concerns of their citizens can better tackle these challenges and contribute to a more secure, healthy, and prosperous world.

Nations must advance these values through example. At home and abroad, the United States strives to honor the principles enshrined in our Nation’s founding documents.

The challenges of a new century require us to summon the full range of human talents to move all nations forward. The United States stands with all governments and peoples committed to unlocking the potential of their people, and to peace, the rule of law, and respect for all citizens.

The Congress, by Joint Resolution, approved July 17, 1959 (73 Stat. 212), has authorized and requested the President to issue a proclamation designating the third week of July of each year as “Captive Nations Week.”

NOW, THEREFORE, I, BARACK OBAMA, President of the United States of America, do hereby proclaim July 19 through July 25, 2009, as Captive Nations Week. I call upon the people of the United States to reaffirm our commitment to all those seeking dignity, freedom, and justice.

IN WITNESS WHEREOF, I have hereunto set my hand this seventeenth day of July, in the year of our Lord two thousand nine, and of the Independence of the United States of America the two hundred and thirty-fourth.

[FR Doc. E9-17665

Filed 7-21-09; 11:15 am]

Billing code 3195-W9-P